NATIONAL SCIENCE FOUNDATION

Special Emphasis Panel in Materials Research; Notice of Meetings

In accordance with the Federal Advisory Committee Act (Pub. L. 92-463 as amended), the National Science Foundation announces the following meetings:

Name: Special Emphasis Panels in Materials Research (1203).

Dates/Time: 14 February, 18 February, 21-22 February 25 February 2000; 8:00 am-5:00 pm.

Place: National Science Foundation; 4201 Wilson Blvd. Arlington, Va; Room 1060.

Type of Meetings: Closed.

Contact Person: Dr. Liselotte J. Schioler, Program Director, Ceramics Program, Division of Materials Research, Room 1065, National Science Foundation, Arlington, VA 22230. Telephone (703) 306-1836.

Minutes: May be obtained from the contact person listed above.

Purpose of Meetings: To provide advice and recommendations concerning proposals submitted to NSF for financial support.

Agenda: Review and evaluate proposals as part of the selection process to determine finalists considered for Ceramic Program awards.

Reason for Closing: The activity being reviewed includes information of a proprietary or confidential nature, including technical information, financial data such as salaries, and personal information concerning individuals associated with the activity. These matters are exempt under 5 U.S.C. 552 b(c) (4) and (6) of the Government in the Sunshine Act.

Dated: January 13, 2000.
Karen J. York,
Committee Management Officer.

[FR Doc. 00-1237 Filed 1-18-00; 8:45 am]

BILLING CODE 7555-01-M